ENVIRONMENTAL PROTECTION AGENCY

[Regional Docket Nos. II-2002-05, -06, -11; FRL-7835-8]

Clean Air Act Operating Permit Program; Petitions for Objection to State Operating Permits for the Keyspan Generation Far Rockaway Station, Motiva Enterprises, LLC, and the New York City Department of Environmental Protection North River Water Pollution Control Plant

AGENCY: Environmental Protection Agency (EPA).

ACTION: Notice of final orders, addressing three State operating permits.

SUMMARY: This document announces that the EPA Administrator has addressed four citizen petitions asking EPA to object to operating permits issued to three facilities by the New York State Department of Environmental Conservation (NYSDEC). Specifically, the Administrator has partially granted and partially denied three petitions submitted by the New York Public Interest Research Group (NYPIRG) to object to the state operating permits issued to the Keyspan Generation Far Rockaway Station, Motiva Enterprises, LLC, and the New York City Department of Environmental Protection (NYCDEP) North River Water Pollution Control Plant. Additionally, the Administrator has partially granted and partially denied a petition submitted by the NYCDEP, requesting our objection to its own operating permit for the North River plant. Pursuant to section 505(b)(2) of the Clean Air Act (Act), petitioners may seek judicial review of those portions of the petitions which EPA denied in the United States Court of Appeals for the appropriate circuit. Any petition for review shall be filed within 60 days from the date this notice appears in the Federal Register, pursuant to section 307 of the Act.

ADDRESSES: You may review copies of the final orders, the petitions, and other supporting information at the EPA Region 2 Office, 290 Broadway, New York, New York 10007-1866. If you wish to examine these documents, you should make an appointment at least 24 hours before visiting day. Additionally, the final orders are available electronically at: http://www.epa.gov/region07/programs/artd/air/title5/petitiondb/petitiondb2002.htm.

FOR FURTHER INFORMATION CONTACT: Steven Riva, Chief, Permitting Section, Air Programs Branch, Division of Environmental Planning and Protection, EPA Region 2, 290 Broadway, 25th Floor, New York, New York 10007-1866, telephone (212) 637-4074.

SUPPLEMENTARY INFORMATION: The Act affords EPA a 45-day period to review, and object to as appropriate, operating permits proposed by state permitting authorities. Section 505(b)(2) of the Act authorizes any person to petition the EPA Administrator within 60 days after the expiration of this review period to object to state operating permits if EPA has not done so. Petitions must be based only on objections to the permit that were raised with reasonable specificity during the public comment period provided by the state, unless the petitioner demonstrates that it was impracticable to raise these issues during the comment period or the grounds for the issues arose after this period.

I. Keyspan

On July 5, 2002, the EPA received a petition from NYPIRG, requesting that EPA object to the issuance of the title V operating permit for the Keyspan Generation Far Rockaway Station. On September 24, 2004, the Administrator issued an order partially granting and partially denying the Keyspan petition. The order explains the reasons behind EPA's conclusion that the NYSDEC must determine whether to retain or delete a condition relating to burning waste-oil in the utility boiler. If this condition is to be retained, the NYSDEC must incorporate additional requirements, and discuss applicability in the corresponding Permit Review Report. The order also explains EPA's reasons for denying NYPIRG's remaining claims.

II. Motiva

On May 23, 2002, the EPA received a petition from NYPIRG, requesting that EPA object to the issuance of the title V operating permit for Motiva Enterprises, LLC. On September 24, 2004, the Administrator issued an order partially granting and partially denying the Motiva petition. The order explains the reasons behind EPA's conclusion that the NYSDEC must: (1) Provide information on the methods used in creating the emission statement; (2) prescribe opacity monitoring for the Vapor Recovery Unit; (3) include additional requirements that are applicable to bulk gasoline terminals; (4) state that reporting is due semi-annually for the facility's average daily gasoline throughput; (5) specify which type of control is in place at the Fixed Roof storage tanks; (6) specify that a record will be generated whenever activities pertaining to the replacement of any liquid mounted seal are performed; (7) state that facility is subject to a gasoline throughput limit of 526,900,000 gallons/yr; and (8) reference emission calculations together with any applicable technical basis. The order also explains EPA's reasons for denying NYPIRG's remaining claims.

III. North River

On October 1 and 4, 2002, the EPA received petitions from NYPIRG and the NYCDEP, requesting that EPA object to the issuance of the title V operating permit for the NYCDEP North River Water Pollution Control Plant. On September 24, 2004, the Administrator issued an order partially granting and partially denying both North River petitions. The order explains the reasons behind EPA's conclusion that the NYSDEC must reopen the permit to: (1) Move the hydrogen sulfide requirements to the state-only enforceable portion of the permit; (2) include requirements for exempt activities where applicable; (3) require annual certification of federally enforceable terms as directed by EPA; (4) include the SIP “excuse” provision codified at 6 NYCRR section 201.5(e); (5) include additional monitoring for NOX from the engines; (6) specify the degree of air cleaning required by 6 NYCRR section 212.4(a) for the wastewater, sludge and miscellaneous processes, and include appropriate monitoring; and (7) clarify the applicability of 6 NYCRR section 230.2 and include appropriate permit conditions. In addition, several issues require the NYSDEC to provide a revised statement of basis that: (1) Explains how the sulfur in fuel monitoring is consistent with the city's contract; (2) clarifies the rationale for including multiple monitoring requirements for opacity from the engines; (3) clarifies the applicability of exempt and trivial activities as well as the general opacity regulation; (4) explains its reasons for concluding the facility is a non-industrial POTW; and (5) clarifies the applicability of CAA section 112(r). The order also explains EPA's reasons for denying the petitioners' remaining claims.

Dated: November 1, 2004.
Jane M. Kenny,
Regional Administrator, Region 2.

[FR Doc. 04-24923 Filed 11-8-04; 8:45 am]

BILLING CODE 6560-50-P